DEPARTMENT OF JUSTICE

Notice of Lodging of Consent Decree Pursuant to the Clean Water Act

In accordance with Departmental Policy, 28 CFR 50.7, notice is hereby given that a consent decree resolving the liability of Mickie E. Jarvill in United States of America v. Arlington Valley Land Company, Inc., et al., Civil Action No. C99-1711C(M) (W.D. Wa.), was lodged with the United States District Court for the Western District of Washington on October 11, 2001.

The proposed consent decree concerns alleged violations of the Clean Water Act, 33 U.S.C. 1311, resulting from the unauthorized discharge of dredged or fill materials into waters of the United States at a location near Arlington, Washington (the “Site”). The consent decree enjoins Mickie E. Jarvill from discharging dredged or fill material into waters of the United States. The consent decree further requires that Mickie E. Jarvill pay civil penalties plus interest in the amount of $90,000 over a five-year period.

The Department of Justice will receive written comments relating to the proposed consent decree for a period of thirty (30) days from the date of publication of this notice. Comments should be addressed to the Assistant Attorney General, Environment and Natural Resources Division, United States Department of Justice, Attention: Michael J. Zevenbergen, Attorney, Environmental Defense Section, Seattle Field Office, c/o NOAA/Damage Assessment, 7600 Sand Point Way NE, Seattle, WA 98115, and should refer to United States of America v. Arlington Valley Land Company, Inc., et al., DJ Reference No. 90-5-1-4-402.

The proposed consent decree may be examined at the Clerk's Office, United States District Court, 1010 Fifth Avenue Seattle, WA 98104.

Letitia J. Grishaw,
Chief, Environmental Defense Section, Environment and Natural Resources, Division, Department of Justice.

[FR Doc. 02-276 Filed 1-4-02; 8:45 am]

BILLING CODE 4410-15-M